DEPARTMENT OF TRANSPORTATION

Pipeline and Hazardous Materials Safety Administration

Pipeline Safety: Renewal requests for Special Permit

AGENCY: Pipeline and Hazardous Materials Safety Administration (PHMSA); DOT.

ACTION: This Notice pertains to the renewal requests for Special Permits with the following Docket Numbers:

PHMSA-2008-0213 Empire Pipeline Inc.

PHMSA-2005-20323 Northern Natural Gas Company

PHMSA-2006-26614 Northern Natural Gas Company

PHMSA-2008-0141 Northern Natural Gas Company

SUMMARY: Pursuant to the Federal pipeline safety laws, PHMSA is publishing this notice of multiple special permit renewal requests that we have received from two natural gas transmission pipeline operators, seeking relief from compliance with certain requirements in the Federal pipeline safety regulations. This notice seeks public comments on these requests, including comments on any safety or environmental impacts the renewal of these special permits would have. For each listed Special Permit renewal request, an Environmental Assessment is available for review and comment in the respective dockets. At the conclusion of the 30-day comment period, PHMSA will evaluate the comments received and the technical analysis of the renewal requests to determine whether to grant or deny the renewal requests.

DATES: Submit any comments regarding these special permit requests by March 6, 2015.

ADDRESSES: Comments should reference the specific docket number for which the comment applies. Comments may be submitted in the following ways:

• At the E-Gov Web site: http://www.Regulations.gov. This site allows the public to enter comments on any Federal Register notice issued by any agency.

• By Mail: Docket Management System: U.S. Department of Transportation, Docket Operations, M-30, West Building Ground Floor, Room W12-140, 1200 New Jersey Avenue SE., Washington, DC 20590.

• By Hand Delivery: DOT Docket Management System: U.S. Department of Transportation, Docket Operations, M-30, West Building Ground Floor, Room W12-140, 1200 New Jersey Avenue SE., Washington, DC 20590 between 9:00 a.m. and 5:00 p.m., Monday through Friday, except Federal holidays.

Instructions: At the beginning of your comments, please identify the docket number for the special permit renewal request you are commenting on. If you submit your comments by mail, please submit two copies. To receive confirmation that PHMSA has received your comments, please include a self-addressed stamped postcard. Internet users may submit comments at http://www.Regulations.gov.

Note: Please read the privacy statement published on http://www.Regulations.gov. Comments, including any personal information provided, are posted without changes or edits to http://www.Regulations.gov.

Contacts for general or technical information:

General: Kay McIver by telephone at (202) 366-0113; or by email at kay.mciver@dot.gov.

Technical: Steve Nanney by telephone at (713) 272-2855; or by email at steve.nanney@dot.gov.

SUPPLEMENTARY INFORMATION: PHMSA has received the following special permit renewal requests from two pipeline operators who seek relief from compliance with certain federal pipeline safety regulations. Each request includes a technical analysis provided by the respective operators, and filed under the original issued special permit number in the Federal Docket Management System (FDMS) at http://www.Regulations.gov. PHMSA invites interested persons to participate by reviewing these special permit renewal requests and submitting written comments, data or other views in the FDMS. Please include comments on any potential environmental impacts that may result if these special permit renewals are granted.

Details of Special Permit renewals received:

Docket No. | Requesters | Regulations affected | Nature of special permit
PHMSA-2008-0213 | Empire Pipeline Inc | 49 CFR 192.611 | To reauthorize Empire Pipeline Inc., (Empire) to continue its operation as defined in the original Special Permit issued on May 20, 2010, for the operation of five pipeline segments located in Genesee, Niagara and Monroe Counties in western and central New York, where the class location has changed from a Class 1 or Class 2 to Class 3 location. The Special Permit renewal request seeks to waive compliance from certain Federal regulations found in 49 CFR 192.611. The segments operate at an MAOP of 1,440 psig. In addition, Empire is requesting that it be allowed to extend the Special permit area of Section 5 by approximately 840 feet.
PHMSA-2005-20323 | Northern Natural Gas Company | 49 CFR 192.625(b)(1) | To reauthorize Northern Natural Gas Company to continue its operation as defined in the original Special Permit issued on April 10, 2010, for the non-odorization of a pipeline lateral. The Special Permit renewal request seeks to waive compliance from certain Federal regulations found in 49 CFR 192.625(b)(1) for the exclusion from installing odorization equipment on Special Permit Segment 1: the 2⅜-inch diameter Rippey branch line (500 psig) located near Highway 44 in Greene County, Iowa and; Special Permit Segment 2: the 4½-inch diameter (1,885 feet length, 800 psig) La Crescent branch line located in Houston County, Minnesota.
PHMSA-2006-26614 | Northern Natural Gas Company | 49 CFR 192.625(b)(1) | To reauthorize Northern Natural Gas Company to continue its operation as defined in the original Special Permit issued on April 10, 2010, for the non-odorization of a pipeline lateral. The Special Permit renewal request seeks to waive compliance from certain Federal regulations found in 49 CFR 192.625(b)(1) for the exclusion from installing odorization equipment on one segment of the Northern Natural Gas Company's 3½-inch diameter St. Joseph transmission pipeline system located in Benton and Stearns Counties, Minnesota. The Special Permit segment is approximately 8 miles long and operates at an MAOP of 1,050 psig.
PHMSA-2006-0141 | Northern Natural Gas Company | 49 CFR 192.625(b)(1) | To reauthorize Northern Natural Gas Company to continue its operation as defined in the original Special Permit issued on April 10, 2010, for the non-odorization of a pipeline lateral. The Special Permit renewal request seeks to waive compliance from certain Federal regulations found in 49 CFR 192.625(b)(1) for the exclusion from installing odorization equipment on one segment of the Northern Natural Gas Company transmission pipeline system located on the Sioux Falls 14-inch diameter (Nebraska to South Dakota Mainline) pipeline in Lincoln County, South Dakota. This segment operates at an MAOP of 446 psig.

Before acting on the special permit renewal requests, PHMSA will evaluate all comments received on or before the comments closing date. PHMSA will consider each relevant comment received in its decision to grant or deny the renewal requests. Comments will be evaluated after this date only if it is possible to do so without incurring additional expense or delay.

Authority: 49 U.S.C. 60118(c)(1) and 49 CFR 1.53.

Issued in Washington, DC, on January 30, 2015.
Alan K. Mayberry,
Deputy Associate Administrator for Policy and Programs.

[FR Doc. 2015-02146 Filed 2-3-15; 8:45 am]

BILLING CODE 4910-60-P